DEPARTMENT OF TRANSPORTATION

Surface Transportation Board

[STB Finance Docket No. 34446]

Bay Colony Railroad Corporation—Acquisition and Operation Exemption—CSX Transportation, Inc., as Operator for New York Central Lines, LLC

Bay Colony Railroad Corporation (BCLR), a Class III rail carrier, has filed a verified notice of exemption under 49 CFR 1150.41 et seq. to acquire from CSX Transportation, Inc., as operator for New York Central Lines, LLC (CSXT), and operate approximately 5.92 miles of rail line between milepost QND 0.08 and milepost QND 6.00, in Bristol County, MA.¹

¹ BCLR is purchasing the assets comprising the line, and is leasing the underlying real property from CSXT.

BCLR certifies that its projected revenues as a result of this transaction will not result in the creation of a Class II or Class I rail carrier. BCLR further certifies that its total annual revenues after the transaction will not exceed $5 million. BCLR expected to commence operation of the line on or about January 1, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34446, must be filed with the Surface Transportation Board, 1925 K Street, NW., Washington, DC 20423-0001. In addition, a copy of each pleading must be served on Eric M. Hocky, Gollatz, Griffin & Ewing, P.C., Four Penn Center, Suite 200, 1600 John F. Kennedy Blvd., Philadelphia, PA 19103-2808.

Board decisions and notices are available on our Web site at http://www.stb.dot.gov.

Decided: January 12, 2004.
By the Board, David M. Konschnik, Director, Office of Proceedings.
Vernon A. Williams,
Secretary.

[FR Doc. 04-981 Filed 1-14-04; 8:45 am]

BILLING CODE 4915-00-P